FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's website (www.fmc.gov) or by contacting the Office of Agreements at (202) 523-5793 or tradeanalysis@fmc.gov.

Agreement No.: 012442-001.

Title: Miami Marine Terminal Conference Agreement.

Parties: Port of Miami Terminal Operating Company, L.C. and South Florida Container Terminal, LLC.

Filing Party: David F. Smith; Cozen O'Connor; 1200 19th Street NW, Washington, DC 20036.

Synopsis: The amendment revises Article 3 of the Agreement to correct the name of one of the Agreement Parties, the Port of Miami Terminal Operating Company, L.C.

By Order of the Federal Maritime Commission.
Dated: February 23, 2018.
Rachel E. Dickon,
Secretary.

[FR Doc. 2018-04080 Filed 2-27-18; 8:45 am]

BILLING CODE 6731-AA-P